DEPARTMENT OF HOMELAND SECURITY

U.S. Immigration and Customs Enforcement

Certain Immigration Enforcement-Related Fees Required by HR-1 Reconciliation Bill: Fiscal Year 2026 Adjustments for Inflation

AGENCY: U.S. Immigration and Customs Enforcement, U.S. Department of Homeland Security.

ACTION: Notice of inflationary fee adjustment.

SUMMARY: The Department of Homeland Security (DHS) is announcing a new fee amount for Fiscal Year (FY) 2026 for two of the immigration enforcement-related fees that were established by the One Big Beautiful Bill Act (HR-1). HR-1 requires that DHS annually adjust the immigration enforcement-related fees for inflation. The adjusted fee amounts for FY 2026 for the aliens ordered removed in absentia and inadmissible alien apprehension fees are $5,130. On December 1, 2025, DHS will begin assessing and collecting these new amounts.

DATES: The fees announced in this notice are effective on December 1, 2025.

FOR FURTHER INFORMATION CONTACT: Office of Regulatory Affairs and Policy, U.S. Immigration and Customs Enforcement, Department of Homeland Security, 500 12th Street SW, Washington, DC 20536; telephone (202) 732-6960 (not a toll-free call).

SUPPLEMENTARY INFORMATION:

I. Background and Authority

On July 4, 2025, the President signed into law the One Big Beautiful Bill Act, Public Law 119-21, 139 Stat. 72 (HR-1), which amended and added new laws that applied to different areas of the United States Government.¹ Relevant to this notice, HR-1 established two immigration enforcement fees applicable to the following: (1) aliens who are ordered removed in absentia pursuant to section 240(b)(5) of the Immigration and Nationality Act (INA), 8 U.S.C. 1229a(b)(5) and are subsequently arrested by U.S. Immigration and Customs Enforcement (ICE); and (2) inadmissible aliens at the time such aliens are apprehended between ports of entry.² Accordingly, on September 8, 2025, DHS provided notice to the public announcing that DHS would begin assessing and collecting these fees in the amount of $5,000 for FY 2025 for both fees, as authorized under the statute.³ DHS also indicated it will individually notify aliens to whom these fees apply and, upon notification, provide instructions on how to pay the fees levied as of September 8, 2025.⁴

¹ See HR-1, Title X, Subtitle A, Part I, sections 100001 through 100018.

² See Public Law 119-21, 139 Stat. 72, secs. 100016, 100017 (codified at 8 U.S.C. 1814, 1815).

³ Certain DHS Immigration Enforcement-Related Fees Required by HR-1 Reconciliation Bill, 90 FR 43223 (Sept. 8, 2025).

⁴ Id.

Under HR-1, these fees are subject to annual adjustments for inflation during FY 2026, and thereafter, each subsequent fiscal year.⁵ Specifically, both fees provide that the annual adjustment for inflation will be calculated as follows:

⁵ See Public Law 119-21, 139 Stat. 72, secs. 100016(b)(2) and 100017(b)(2), 8 U.S.C. 1814(b)(2), 1815(b)(2).

[T]he sum of—

(A) the amount of the fee required under this subsection for the most recently concluded fiscal year; and

(B) the product resulting from the multiplication of the amount referred to in subparagraph (A) by the percentage (if any) by which the Consumer Price Index for All Urban Consumers for the month of July preceding the date on which such adjustment takes effect exceeds the Consumer Price Index for All Urban Consumers for the same month of the preceding calendar year, rounded to the next lowest multiple of $10.

Accordingly, DHS has calculated the adjustments for inflation for these fees and sets forth the applicable new amounts below in this notice.

II. FY 2026 Fee Amounts Adjusted for Inflation

A. Adjustments for Immigration Enforcement-Related Fees Under HR-1

Consistent with the current process, DHS will individually notify aliens to whom these adjusted fees apply and provide instructions on how to pay the fees levied on December 1, 2025. DHS is setting the date of December 1, 2025, to allow for system updates and to address accounting and budget timelines. The new FY 2026 fees are as follows:

⁶ In accordance with HR-1 secs. 100016(b)(2), 100017(b)(2), the annual adjustment for FY 2026 is calculated as the sum of the amount of the fee required under this subsection for the most recently concluded fiscal year; and the product resulting from the multiplication of the amount referred to in subparagraph (A) by the percentage by which the Consumer Price Index of All Urban Consumers (CPI-U) (323.048) for the month of July 2025 exceeds the CPI-U for July 2024 (314.540), rounded to the next lowest multiple of $10. This results in a multiplier of 1.02705. See Bureau of Labor Statistics, Consumer Price Index for All Urban Consumers, https://data.bls.gov/timeseries/CUUR0000SA0?years_option=all_years (last visited Sept. 17, 2025).

⁷ The current $5,000 fee multiplied by the 1.02705 multiplier results in a fee of $5,135.25. In accordance with HR-1 secs. 100016(b)(2), 100017(b)(2), this number is rounded to the next lowest multiple of $10, for a FY 2026 fee of $5,130.

100016(b)(2), 10017(b)(2), the annual adjustment for FY2026 is calculated as the sum of the amount of the fee required under this subsection for the most recently concluded fiscal year; and the product resulting from the multiplication of the amount referred to in subparagraph (A) by the percentage by which the Consumer Price Index of All Urban Consumers (CPI-U) (323.048) for the month of July 2025 exceeds the CPI-U for July 2024 (314.540), rounded to the next lowest multiple of $10. This results in a multiplier of 1.02705. See Bureau of Labor Statistics, Consumer Price Index for All Urban Consumers, https://data.bls.gov/timeseries/CUUR0000SAU?years_option=all_years (last visited Sept. 17, 2025).

Fee description | Citation | FY 2025 fee amount | Multiplier ⁶ | FY 2026 fee amount as adjusted by this notice ⁷
Aliens subject to removal orders in absentia and subsequently arrested by ICE | HR-1, Public Law 119-21, 139 Stat. 72, sec. 100016. (codified at 8 U.S.C. 1814) | $5,000 | 1.02705 | $5,130
Inadmissible aliens arrested between ports of entry | HR-1, Public Law 119-21, 139 Stat. 72, sec. 100017. (codified at 8 U.S.C. 1815) | 5,000 | 1.02705 | 5,130

B. Section 100016. Aliens Ordered Removed in Absentia Pursuant to INA Section 240(b)(5) and Subsequently Arrested by ICE

Based on the calculation for inflation adjustments for FY 2026, as set forth under HR-1 section 100016(b)(2), DHS will collect and assess a fee in the amount of $5,130 for aliens subject to the fee under HR-1, section 100016, Fee for aliens ordered removed in absentia. This fee is applicable to aliens who have been ordered removed in absentia by an immigration judge pursuant to INA section 240(b)(5) for failure to attend removal proceedings and are subsequently arrested by ICE.⁸ HR-1 provides an exception to this fee for aliens whose removal order in absentia is rescinded pursuant to INA section 240(b)(5)(C), 8 U.S.C. 1229a(b)(5)(C).⁹ See Public Law 119-21 sec. 100016(c). HR-1 also provides that no waivers are available for this enforcement fee. See Public Law 119-21 sec. 100016(e).

⁸ An alien is “ordered removed in absentia” under section 240(b)(5) of the INA, 8 U.S.C. 1229a(b)(5), when the alien fails to attend removal proceedings after receiving written notice of the proceedings and DHS has established “by clear, unequivocal, and convincing evidence that the written notice was so provided and that the alien is removable.”

⁹ INA section 240(b)(5)(C), 8 U.S.C. 1229a(b)(5)(C) (“Such an order may be rescinded only-(i) upon a motion to reopen filed within 180 days after the date of the order of removal if the alien demonstrates that the failure to appear was because of exceptional circumstances (as defined in subsection (e)(1)), or (ii) upon a motion to reopen filed at any time if the alien demonstrates that the alien did not receive notice in accordance with paragraph (1) or (2) of section 1229(a) of this title or the alien demonstrates that the alien was in Federal or State custody and the failure to appear was through no fault of the alien”).

C. Section 100017. Inadmissible Aliens Apprehended Between Ports of Entry Into the United States

Based on the calculation for inflation adjustments for FY 2026, as set forth under HR-1 section 100017(b)(2), DHS will collect and assess a fee in the amount of $5,130 for aliens subject to the fee under HR-1, section 100017, Inadmissible alien apprehension fee. This fee is applicable to aliens who are inadmissible under INA section 212, 8 U.S.C. 1182, and are apprehended by DHS between ports of entry. Aliens who are apprehended by DHS between ports of entry are often subject to the ground of inadmissibility under INA section 212(a)(6), 8 U.S.C. 1182(a)(6), which provides that any alien “present in the United States without being admitted or paroled, or who arrives in the United States at any time or place other than as designated by the Attorney General, is inadmissible.” ¹⁰ However, an alien could also be inadmissible based on additional grounds of inadmissibility listed under INA section 212, 8 U.S.C. 1182.

¹⁰ INA section 212(a)(6), 8 U.S.C. 1182(a)(6).

Kristi Noem,
Secretary, U.S. Department of Homeland Security.

[FR Doc. 2025-20401 Filed 11-19-25; 8:45 am]

BILLING CODE 9111-CB-P